LEGAL SERVICES CORPORATION

Sunshine Act Meeting of the Board of Directors Finance Committee

Time and Date: The Finance Committee of the Legal Services Corporation Board of Directors will meet January 30, 2004. The meeting will begin at 10 a.m. and continue until completion of the Committee's agenda.

Location: The Melrose Hotel, 2430 Pennsylvania Avenue, NW., Washington, DC 20037.

Status of Meeting: Open.

Matters to be Considered:

Open Session

1. Approval of agenda.

2. Approval of the minutes of the Committee's meeting of November 21, 2003.

3. Report on LSC's Temporary Operating Budget, Expenses and Other Funds Available through November 30, 2003.

4. Consider and act on the President's and Acting Inspector General's recommendations for FY 2004 Consolidated Operating Budget or Revised Temporary Operating Budget.

5. Consider and act on space reallocation options at LSC Headquarters and related financial implications.

6. Status report from the Inspector General on the Corporation's fiscal year 2003 annual audit.

7. Report from staff on results of survey of LSC recipients on Loan Repayment Assistant Programs and Retirement Programs.

8. Consider and act on other business.

9. Public comment.

10. Consider and act on adjournment of meeting.

FOR FURTHER INFORMATION CONTACT: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: January 22, 2004.
Victor M. Fortuno,
Vice President for Legal Affairs, General Counsel and Corporate Secretary.

[FR Doc. 04-1775 Filed 1-23-04; 11:13 am]

BILLING CODE 7050-01-P